DEPARTMENT OF COMMERCE

National Oceanic and Atmospheric Administration

RIN 0648-XH081

New England Fishery Management Council; Public Meetings

AGENCY: National Marine Fisheries Service (NMFS), National Oceanic and Atmospheric Administration (NOAA), Commerce.

ACTION: Notice; public meetings.

SUMMARY: The New England Fishery Management Council (Council) has contracted with the Gulf of Maine Research Institute (GMRI) to conduct a series of port meetings; nine public meetings are scheduled to solicit public comments on the sector catch share program in the Northeast Multispecies (groundfish) Fishery Management Plan.

DATES: Written public comments must be received on or before 5 p.m. EST, Monday, August 19, 2019. These meetings will be held between July 18, 2019 and August 16, 2019. For specific dates and times see SUPPLEMENTARY INFORMATION.

ADDRESSES: The port meetings will be held in Ellsworth, ME; Portland, ME; Hyannis, MA; Plymouth, MA; Gloucester, MA; Portsmouth, NH; Riverhead, NY; Narragansett, RI; and New Bedford, MA. For specific locations, see SUPPLEMENTARY INFORMATION.

Public comments: Mail to Thomas A. Nies, Executive Director, New England Fishery Management Council, 50 Water Street, Mill #2, Newburyport, MA 01950. Mark the outside of the envelope “Groundfish Catch Share Program Review”. Comments may also be sent via fax to (978) 465-3116 or submitted via email to comments@nefmc.org with “Groundfish Catch Share Program Review” in the subject line.

FOR FURTHER INFORMATION CONTACT: Thomas Nies, Executive Director, New England Fishery Management Council; telephone: (978) 465-0492.

SUPPLEMENTARY INFORMATION: The Council is seeking public input on the sector catch share program review. The New England Fishery Management Council is conducting a review of the groundfish sector system, which is a catch share program under the Northeast Multispecies (groundfish) Fishery Management Plan (FMP). The evaluation period for this review is focused strictly on fishing years 2010 to 2015, spanning from May 1, 2010 through April 30, 2016. This period covers the first six years of the catch share program under Amendment 16 to the FMP. Information prior to program implementation also will be included for fishing years 2007 to 2009, covering May 1, 2007 through April 30, 2010. The Council has contracted with the Gulf of Maine Research Institute (GMRI) to conduct a series of port meetings to solicit public comments about the review. The schedule is as follows:

1. Thursday, July 18, 2019, from 4:30 p.m.-7 p.m.; Moore Community Center, 5 General Moore Way, Ellsworth, ME; phone: (207) 307-0324.

2. Friday, July 19, 2019, from 4:30-7 p.m.; Gulf of Maine Research Institute, 350 Commercial St., Portland, ME; phone: (207) 228-1625.

3. Tuesday, July 23, 2019, from 4:30-7 p.m.; Hyannis Youth & Community Center, 141 Bassett Lane, Hyannis, MA; phone: (508) 790-6345.

4. Wednesday, July 24, 2019, from 4:30-7 p.m.; Plymouth Library, 132 South Street, Plymouth, MA; phone: (508) 830-4250.

5. Thursday, July 25, 2019, from 4:30-7 p.m.: Gloucester Library, 2 Dale Avenue, Gloucester, MA; phone: (978) 281-9763.

6. Friday, July 26, 2019, from 4:30-7 p.m.; Portsmouth High School, 50 Andrew Jarvis Drive, Portsmouth, NH; phone: (603) 610-4166.

7. Wednesday, August 14, 2019, from 4:30-7 p.m.; Kermit W. Graf Building, Cornell Cooperative Extension, 423 Griffing Avenue, Riverhead, NY; phone: (631) 632-8730.

8. Thursday, August 15, 2019, from 4:30-7 p.m.; Narragansett Office of Town Managers, 25 Fifth Avenue, Narragansett, RI; phone: (401) 782-0645.

9. Friday, August 16, 2019, from 4:30-7 p.m.; Fairfield Inn and Suites, 185 MacArthur Drive, New Bedford, MA; phone: (774) 634-2000.

Additional information is available on the Council website at https://www.nefmc.org/library/groundfish-catch-share-program-review. The public also should be aware that the sessions will be recorded. Consistent with 16 U.S.C. 1852, a copy of the recording is available upon request.

Special Accommodations

These meetings are physically accessible to people with disabilities. Requests for sign language interpretation or other auxiliary aids should be directed to Thomas Nies (see ADDRESSES), at least 5 working days prior to the meeting date.

Authority: 16 U.S.C. 1801 et seq.

Dated: June 28, 2019.
Rey Israel Marquez,
Acting Deputy Director, Office of Sustainable Fisheries, National Marine Fisheries Service.

[FR Doc. 2019-14254 Filed 7-2-19; 8:45 am]

BILLING CODE 3510-22-P